DEPARTMENT OF HOUSING AND URBAN DEVELOPMENT

[Docket No. FR-5548-D-02]

Order of Succession for the Office of Strategic Planning and Management

AGENCY: Office of Strategic Planning and Management, HUD.

ACTION: Notice of Order of Succession.

SUMMARY: In this notice, the Director, Office of Strategic Planning and Management, designates the Order of Succession for the Office of Strategic Planning and Management. This is the first order of succession established for this office.

DATES: Effective Date: June 22, 2011.

FOR FURTHER INFORMATION CONTACT: Nina M. Coward, Office of Strategic Planning and Management, Department of Housing and Urban Development, 451 7th Street, SW., Room 10156, Washington DC 20410, telephone number 202-402-3897. (This is not a toll-free number). Persons with hearing- or speech-impairments may access this number through TTY by calling the toll-free Federal Relay Service at 1-800-877-8339.

SUPPLEMENTARY INFORMATION: The Director, Office of Strategic Planning and Management, is issuing this Order of Succession of officials authorized to perform the functions and duties of the Office of Strategic Planning and Management when, by reason of absence, disability, or vacancy in office, the Director is not available to exercise the powers or perform the duties of the office. This Order of Succession is subject to the provisions of the Federal Vacancies Reform Act of 1998 (5 U.S.C. 3345-3349d). This is the first order of succession established for this office.

Accordingly, the Director designates the following Order of Succession:

Subject to the provisions of the Federal Vacancies Reform Act of 1998, during any period when, by reason of absence, disability, or vacancy in office, the Director, Office of Strategic Planning and Management, is not available to exercise the powers or perform the duties of the Director, the following officials within the Office of Strategic Planning and Management are hereby designated to exercise the powers and perform the duties of the Office:

(1) Deputy Director of the Office of Strategic Planning and Management;

(2) Division Director—Change Management;

(3) Division Director—Performance Management;

(4) Division Director—Process & Technology; and

(5) Division Director—American Recovery and Reinvestment Act.

These officials shall perform the functions and duties of the office in the order specified herein, and no official shall serve unless all the other officials, whose position titles precede his/hers in this order, are unable to act by reason of absence, disability, or vacancy in office.

Authority: Section 7(d), Department of Housing and Urban Development Act, 42 U.S.C. 3535(d).

Dated: June 22, 2011.
Peter J. Grace,
Director of the Office of Strategic Planning and Management.

[FR Doc. 2011-16639 Filed 6-30-11; 8:45 am]

BILLING CODE 4210-67-P